DEPARTMENT OF TRANSPORTATION

Federal Aviation Administration

14 CFR Part 39

[Docket No. 2000-NM-297-AD; Amendment 39-13792; AD 2004-18-13]

RIN 2120-AA64

Airworthiness Directives; Airbus Model A300 B2 and B4 Series Airplanes; and Model A300 B4-601, B4-603, B4-605R, B4-620, B4-622R, C4-605R Variant F, and F4-605R Airplanes

AGENCY: Federal Aviation Administration, DOT.

ACTION: Final rule.

SUMMARY: This amendment supersedes an existing airworthiness directive (AD), applicable to certain Airbus Model A300 B2 and B4 series airplanes, and Model A300 B4-601, B4-603, B4-605R, B4-620, B4-622R, C4-605R Variant F, and F4-605R airplanes, that currently requires a one-time inspection for cracking of the gantry lower flanges in the main landing gear (MLG) bay area; and repair, if necessary. This amendment removes an airplane model from the applicability. This amendment, for certain airplanes, retains the one-time inspection for cracking of the gantry lower flanges and repair, if necessary. For other airplanes, this amendment adds repetitive inspections of the gantry lower flanges; repair, if necessary; and reinforcement of the left-hand and right-hand gantry. The actions specified by this AD are intended to detect and correct cracking of the gantry lower flanges in the MLG bay area, which could result in decompression of the airplane. This action is intended to address the identified unsafe condition.

DATES: Effective October 19, 2004.

The incorporation by reference of Airbus Service Bulletin A300-53-6128, dated March 5, 2001, as listed in the regulations, is approved by the Director of the Federal Register as of October 19, 2004.

The incorporation by reference of Airbus All Operators Telex (AOT) 53-11, dated October 13, 1997, as listed in the regulations, was approved previously by the Director of the Federal Register as of July 30, 1998 (63 FR 34589, June 25, 1998).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) by superseding AD 98-13-37, amendment 39-10628 (63 FR 34589, June 25, 1998), which is applicable to certain Airbus Model A300 B2 and B4 series airplanes, and Model A300 B4-601, B4-603, B4-620, B4-605R, B4-622R, and F4-605R airplanes, was published as a supplemental notice of proposed rulemaking (NPRM) in the Federal Register on June 25, 2002 (67 FR 42739). The action proposed to continue to require a one-time inspection for cracking of the gantry lower flanges and repair if necessary. The action also proposed to remove one airplane model from the applicability. For other airplanes, the action proposed to add repetitive inspections of the gantry lower flanges; repair, if necessary; and reinforcement of the left-hand and right-hand gantry.

Comments

Interested persons have been afforded an opportunity to participate in the making of this amendment. Due consideration has been given to the comments received.

Request To Revise Initial Compliance Time

One commenter requests that the compliance time for initial inspections required in paragraph (b)(1) of the NPRM be revised to allow a grace period of “200 flight cycles from the effective date of the new AD.” The commenter points out that the NPRM specifies that initial inspections are to be done within 200 flight cycles from service bulletin reception, which allows no grace period with respect to the AD. The commenter contends that its request would give operators a more manageable time to accomplish the initial visual inspections and follow-up inspections. The commenter believes this change provides a realistic grace period for the NPRM that is based on manufacturer and service bulletin data.

We agree with the commenter's request to revise the compliance time for the initial inspections required in paragraph (b) of the final rule. Airbus Service Bulletin A300-53-6128, dated March 5, 2001, which is referenced as the appropriate source of service information for accomplishing the required actions of the final rule, specifies thresholds for the initial inspection that are based on airplane configuration and includes a grace period of “200 flight cycles after receipt of this service bulletin.” We have reviewed the information in the service bulletin and have determined that a 200-flight-cycle grace period based on the effective date of the AD will address the unsafe condition in a timely manner. We have revised paragraph (b) of the final rule accordingly.

Request To Allow Direction Générale de l'Aviation Civile (DGAC) Approval

The same commenter also requests that the DGAC, which is the airworthiness authority for France, or its delegated agent, be allowed to approve repair methods for the repairs specified in paragraph (b)(3) of the NPRM. The commenter notes that this approval by the DGAC is allowed on other ADs and is in accordance with bilateral agreements with the FAA and the DGAC. The commenter states that this will allow operators to accept repair data approved by the DGAC and provide uniformity with other ADs for Model A300 airplanes.

We agree with the commenter's request to allow the DGAC, or its delegated agent, to approve repair methods for the repairs specified in paragraph (b)(4) of the final rule (specified as paragraph (b)(3) in the NPRM). In light of the type of repair that will be required to address the unsafe condition, and consistent with existing bilateral airworthiness agreements, we have determined that, for the final rule, a repair approved by either the FAA or the DGAC is acceptable for compliance with this final rule. We have revised paragraph (b)(4) of the final rule accordingly.

Request for Credit for Inspections Accomplished in Accordance With AD 98-13-37

The same commenter also requests that Model A300-600 series airplanes that have accumulated below 20,500 flight cycles and have been previously inspected in accordance with AD 98-13-37 be considered in compliance with the NPRM's initial inspection requirements. The commenter contends that this would allow operators to take credit for previously accomplished equivalent inspections. The commenter notes that AD 98-13-37 inspects gantries 3 and 4 in accordance with Airbus AOT 53-11, dated October 13, 1997, and if no cracks are found, requires the next inspection at 8,000 flight cycles. Therefore, the commenter states the inspections are equivalent to those required by the NPRM. In addition, the commenter notes that the initial inspection for gantry 5 is not required until 20,500 flight cycles. The commenter believes that the statement “* * * required as indicated, unless previously accomplished” probably allows for this credit but they would like specific clarification.

We agree with the commenter that operators should get credit for inspections previously accomplished in accordance with Airbus AOT 53-11, dated October 13, 1997. Operators are given credit for work previously performed by means of the phrase in the compliance section of the final rule that states, “Required as indicated, unless accomplished previously.” Therefore, an inspection done previously in accordance with the AOT is acceptable for compliance with the inspection specified in paragraph (a) of the final rule. However, since the inspections in paragraph (b) of the final rule are required to be accomplished in accordance with Airbus Service Bulletin A300-53-6128, dated March 5, 2001, we have added paragraph (c) to the final rule to give operators credit for applicable inspections done previously in accordance with the AOT.

Clarification of Applicability

We inadvertently excluded Airbus Model A300 C4-605R Variant F airplanes from the applicability of the NPRM. The applicability of the NPRM was intended to be the same as French airworthiness directive (AD) 2001-091(B), dated March 21, 2001, excluding Model A300 F4-622R airplanes, and French AD 1997-372-236(B) R2, dated April 18, 2001. We have revised the applicability of the final rule to include Airbus Model A300 C4-605R Variant F airplanes and have added these airplanes to paragraph (b) of the final rule. These airplanes are not registered in the U.S. so adding these airplanes to the applicability does not increase the burden of any U.S. operator nor does it expand the scope of the final rule. However, adding these airplanes to the applicability will ensure that if the affected airplane is imported and placed on the U.S. register in the future, the airplane will be required to be in compliance as well.

Conclusion

After careful review of the available data, including the comments noted above, the FAA has determined that air safety and the public interest require the adoption of the rule with the changes previously described. The FAA has determined that these changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOCs). However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

One-Time Inspection

The number of airplanes affected by AD 98-13-37 was estimated to be 67. The one-time inspection required by that AD was estimated to take approximately 4 work hours per airplane to accomplish, at an average labor rate of $65 per work hour. Based on these figures, the cost impact of AD 98-13-37 on U.S. operators was estimated to be $17,420, or $260 per airplane.

The FAA currently estimates that 43 Model A300 B2 and B4 series airplanes of U.S. registry will be affected by the one-time inspection required by AD 98-13-37 and retained in this AD. However the future cost impact of this requirement is minimal as we consider that all affected U.S. operators have previously accomplished these requirements.

Repetitive Inspections

The FAA estimates that 78 Model A300 B4-601, B4-603, B4-605R, B4-620, B4-622R, and F4-605R airplanes of U.S. registry will be affected by the required repetitive inspections, that it will take approximately 12 work hours per airplane to accomplish each inspection, and that the average labor rate is $65 per work hour. Based on these figures, the cost impact of the required repetitive inspections on those U.S. operators is estimated to be $60,840, or $780 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10628 (63 FR 34589, June 25, 1998), and by adding a new airworthiness directive (AD), amendment 39-13792, to read as follows:

2004-18-13 Airbus: Amendment 39-13792. Docket 2000-NM-297-AD. Supersedes AD 98-13-37, Amendment 39-10628.

Applicability: Model A300 B2 and B4 series airplanes on which Airbus Modification 3474 has been accomplished; and Model A300 B4-601, B4-603, B4-605R, B4-620, B4-622R, C4-605R Variant F, and F4-605R airplanes on which Airbus Modification 12169 has not been incorporated in production; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct cracking of the gantry lower flanges in the main landing gear (MLG) bay area, which could result in decompression of the airplane, accomplish the following:

One-Time Inspection and Corrective Action

(a) For Model A300 B2 and B4 series airplanes: Prior to the accumulation of 16,300 total flight cycles, or within 500 flight cycles after July 30, 1998 (the effective date of AD 98-13-37, amendment 39-10628), whichever occurs later, perform a one-time ultrasonic inspection for cracking of the gantry lower flanges in the MLG bay area, in accordance with Airbus All Operators Telex (AOT) 53-11, dated October 13, 1997.

(1) If any cracking is detected, prior to further flight, repair in accordance with the AOT.

(2) If no cracking is detected, no further action is required by this paragraph.

Repetitive Inspections and Corrective Action

(b) For Model A300 B4-601, B4-603, B4-605R, B4-620, B4-622R, C4-605R Variant F airplanes, and F4-605R airplanes: Perform the requirements of paragraphs (b)(1), (b)(2), (b)(3), and (b)(4) of this AD, in accordance with Airbus Service Bulletin A300-53-6128, dated March 5, 2001.

(1) At the later of the times specified in paragraphs (b)(1)(i) and (b)(1)(ii) of this AD, perform initial ultrasonic inspections or high-frequency eddy current inspections for cracks of the lower flanges of gantries 3, 4, and 5 between fuselage frames FR47 and FR54, in accordance with the Accomplishment Instructions, including the Synoptic Chart contained in Figure 2, sheets 1 through 5 inclusive, of the service bulletin.

(i) In accordance with the thresholds specified in the Synoptic Chart contained in Figure 2, sheets 1 through 5 inclusive, of the service bulletin; or

(ii) Within 200 flight cycles after the effective date of this AD.

(2) Perform repetitive ultrasonic inspections or high-frequency eddy current inspections for cracks of the lower flanges of gantries 3, 4, and 5 between fuselage frames FR47 and FR54, in accordance with the thresholds and Accomplishment Instructions, including the Synoptic Chart contained in Figure 2, sheets 1 through 5 inclusive, of the service bulletin.

(3) Perform repairs and reinforcements, in accordance with the thresholds and the Accomplishment Instructions, including the Synoptic Chart contained in Figure 2, sheets 1 through 5 inclusive, of the service bulletin, except as specified in paragraph (b)(4) of this AD.

(4) If a new crack is found during any action required by paragraph (b)(1), (b)(2) or (b)(3) of this AD and the Synoptic Chart contained in Figure 2, sheets 1 through 5 inclusive, of the service bulletin specifies to contact Airbus for appropriate action: Prior to further flight, repair per a method approved by the Manager, International Branch, ANM-116, FAA, Transport Airplane Directorate; or the Direction Générale de l'Aviation Civile (DGAC) (or its delegated agent).

Credit for Inspections Accomplished in Accordance With the AOT

(c) Any inspection accomplished before the effective date of this AD in accordance with Airbus AOT 53-11, dated October 13, 1997, is acceptable for compliance with the corresponding inspection specified in paragraph (b)(1) of this AD, for that inspection area only. Operators must do the applicable inspections in paragraph (b)(1) of this AD for the remaining inspection areas.

Alternative Methods of Compliance (AMOCs)

(d) An AMOC or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved AMOCs with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Unless otherwise specified in this AD, the actions shall be done in accordance with Airbus Service Bulletin A300-53-6128, excluding Appendix 01, dated March 5, 2001; and Airbus All Operators Telex (AOT) 53-11, dated October 13, 1997; as applicable.

(1) The incorporation by reference of Airbus Service Bulletin A300-53-6128, excluding Appendix 01, dated March 5, 2001, is approved by the Director of the Federal Register in accordance with 5 U.S.C. 552(a) and 1 CFR part 51.

(2) The incorporation by reference of Airbus All Operators Telex (AOT) 53-11, dated October 13, 1997, was approved previously by the Director of the Federal Register as of July 30, 1998 (63 FR 34589, June 25, 1998).

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in French airworthiness directives 1997-372-236(B) R2, dated April 18, 2001, and 2001-091(B), dated March 21, 2001.

Effective Date

(g) This amendment becomes effective on October 19, 2004.

Issued in Renton, Washington, on August 31, 2004.
Ali Bahrami,
Manager, Transport Airplane Directorate, Aircraft Certification Service.

[FR Doc. 04-20408 Filed 9-13-04; 8:45 am]

BILLING CODE 4910-13-P